DEPARTMENT OF HEALTH AND HUMAN SERVICES

Centers for Disease Control and Prevention

[60Day-20-0607; Docket No. CDC-2019-0089]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled The National Violent Death Reporting System (NVDRS). The NVDRS is designed to continue collection of detailed and timely state-based surveillance data on violent deaths.

DATES: CDC must receive written comments on or before December 23, 2019.

ADDRESSES: You may submit comments, identified by Docket No. CDC-2019-0089 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

The National Violent Death Reporting System (NVDRS) (OMB Control No. 0920-0607, Exp. 11/30/2020)—Revision—National Center for Injury Prevention and Control (NCIPC), Centers for Disease Control and Prevention (CDC).

Background and Brief Description

Violence is an important public health problem. In the United States, suicide and homicide are the second and third leading causes of death, respectively, in the 1-34 year-old age group. Unfortunately, public health agencies do not know much more about the problem than the numbers and the sex, race, and age of the victims, or information obtainable from the standard death certificate. Death certificates, however, carry no information about key facts necessary for prevention, such as the relationship of the victim and suspect and the circumstances of the deaths. Furthermore, death certificates are typically available 20 months after the completion of a single calendar year. Official publications of national violent death rates, e.g. those in Morbidity and Mortality Weekly Report, rarely use data that is less than two years old.

Local and Federal criminal justice agencies such as the Federal Bureau of Investigation (FBI) provide slightly more information about homicides, but they do not routinely collect standardized data about suicides, which are, in fact, much more common than homicides. The FBI's Supplemental Homicide Report (SHR) does collect basic information about the victim-suspect relationship and circumstances related to the homicide. SHRs, do not link violent deaths that are part of one incident such as homicide-suicides. However, it is a voluntary system in which some 10-20 percent of police departments nationwide do not participate. The FBI's National Incident Based Reporting System (NIBRS) provides slightly more information than SHRs, but it covers less of the country. NIBRS also only provides data regarding homicides. The Bureau of Justice Statistics Reports do not use data that is less than two years old.

The National Violent Death Reporting System (NVDRS), implemented by the Centers for Disease Control and Prevention (CDC), is a state-based surveillance system developed to monitor the occurrence of violent deaths (i.e., homicide, suicide, undetermined deaths, and unintentional firearm deaths) in the United States (U.S.) by collecting comprehensive, detailed, useful, and timely data from multiple sources (e.g., death certificates, coroner/medical examiner reports, law enforcement reports) into a useable, anonymous database. In 2018, the NVDRS expanded by adding 10 new states. Now, all 50 states, the District of Columbia, and Puerto Rico participate in the system. CDC requests OMB approval in order to revise its state-based surveillance system for violent deaths that will allow it to collect more detailed and timely information. The purpose of this revision is three-fold: (1) Implement updates to the web-based system to improve performance, functionality, and accessibility, (2) add new data elements to the system and minimal revisions to the NVDRS coding manual; and (3) modify burden hours to account for the increase in violent deaths that have occurred in the U.S. since 2003.

Consequently, these revisions impact the number of responses per respondent, increasing it from 1,000 (as written in previous OMB requests) to 1,350, resulting in an increase in the total burden hours for retrieval of these records from 29,500 to 37,800. NVDRS has always had the goal to be a nationally representative surveillance system, operating in all 50 states, the District of Columbia, and U.S. territories. In the previous OMB package, we calculated the number of respondents to be 56, which included 50 states, the District of Columbia, and 5 U.S. territory health departments (Puerto Rico, Guam, American Samoa, and the Commonwealth of the Northern Mariana Islands (Northern Marianas, U.S. Virgin Islands). Our request is to continue with the number of respondents at 56, continuing to exclude large local health departments as an independent respondent in NVDRS. CDC requests approval for an estimated 37,800 burden hours, annually. There are no costs to respondents other than their time.

Estimated Annualized Burden Hours
Type of respondent | Form name | No. of respondents | No. responses per respondent | Average burden per response (in hours) | Total burden hours
Public Agencies | Retrieving and refile records (Att. 6) | 56 | 1,350 | 30/60 | 37,800
Total |  |  |  |  | 37,800

Jeffrey M. Zirger,
Lead, Information Collection Review Office, Office of Scientific Integrity, Office of Science, Centers for Disease Control and Prevention.

[FR Doc. 2019-23017 Filed 10-21-19; 8:45 am]

BILLING CODE 4163-18-P